DEPARTMENT OF HEALTH AND HUMAN SERVICES

Centers for Disease Control and Prevention

Disease, Disability, and Injury Prevention and Control Special Emphasis Panels (SEP): HIV I—Use of Respondent-Driven Sampling To Reach Bisexually Active MSM Program Announcement (PA) PS06-008; Reducing Sexual Risk for HIV Acquisition and Transmissions Among African American MSM, PA PS06-006; Strategies for Identifying At-Risk African American Men Who Have Sex With Men, PA PS06-009 and Research To Evaluate an Effective Community Level Intervention Adapted for Black Men Who Have Sex With Men, PA PS06-010

In accordance with section 10(a)(2) of the Federal Advisory Committee Act (Pub. L. 92-463), the Centers for Disease Control and Prevention (CDC) announces the following meeting:

Name: Disease, Disability, and Injury Prevention and Control Special Emphasis Panel (SEP): HIV I—Use of Respondent-Driven Sampling to Reach Bisexually Active MSM, PA PS06-008; Reducing Sexual Risk for HIV Acquisition and Transmissions Among African American MSM, PA PS06-006; Strategies for Identifying At-Risk African American Men Who Have Sex With Men, PA PS06-009 and Research to Evaluate an Effective Community Level Intervention Adapted for Black Men Who Have Sex With Men, PA PS06-010.

Time and Date: 8 a.m.-5 p.m., June 20, 2006 (Closed).

Place: Marriott Suites Midtown, 35 14th Street, Atlanta, GA 30309, Telephone 404.876.8888.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to “Use of Respondent-Driven Sampling to Reach Bisexually Active MSM,” PA PS06-008; “Reducing Sexual Risk for HIV Acquisition and Transmissions Among African American MSM,” PA PS06-006; “Strategies for Identifying At-Risk African American Men Who Have Sex With Men,” PA PS06-009 and “Research to Evaluate an Effective Community Level Intervention Adapted for Black Men Who Have Sex With Men,” PA PS06-010.

For Further Information Contact: Jim Newhall, Ph.D., Scientific Review Administrator, Office of Public Health Research, CDC, 1600 Clifton Road NE., Mailstop D72, Atlanta, GA 30333, Telephone 404.639.4641.

The Director, Management Analysis and Services Office, has been delegated the authority to sign Federal Register notices pertaining to announcements of meetings and other committee management activities, for both CDC and the Agency for Toxic Substances and Disease Registry.

Dated: May 19, 2006.
Alvin Hall,
Director, Management Analysis and Services Office, Centers for Disease Control and Prevention.

[FR Doc. E6-8130 Filed 5-25-06; 8:45 am]

BILLING CODE 4163-18-P